DEPARTMENT OF COMMERCE

Submission for OMB Review; Comment Request

The Department of Commerce will submit to the Office of Management and Budget (OMB) for clearance the following proposal for collection of information under the provisions of the Paperwork Reduction Act (44 U.S.C. chapter 35).

AGENCY: U.S. Census Bureau.

Title: Current Population Survey, Housing Vacancy Survey.

OMB Control Number: 0607-0179.

Form Number(s): There are no forms for data collection. We conduct all interviews on computers.

Type of Request: Regular Submission.

Number of Respondents: 84,000.

Average Hours per Response: 3 minutes.

Burden Hours: 4200.

Needs and Uses: Collection of the HVS in conjunction with the Current Population Survey began in 1956, and serves a broad array of data users. We conduct the HVS interviews with landlords or other knowledgeable people concerning vacant housing units identified in the monthly CPS sample and meeting certain criteria. The HVS provides the only quarterly statistics on rental vacancy rates and homeownership rates for the United States, the four census regions, the 50 states and the District of Columbia, and the 75 largest metropolitan areas (MAs). Private and public sector organizations use these rates extensively to gauge and analyze the housing market with regard to supply, cost, and affordability at various points in time.

In addition, the rental vacancy rate is a component of the index of leading economic indicators published by the Department of Commerce.

Policy analysts, program managers, budget analysts, and congressional staff use these data to advise the executive and legislative branches of government with respect to the number and characteristics of units available for occupancy and the suitability of housing initiatives. Several other government agencies use these data on a continuing basis in calculating consumer expenditures for housing as a component of the gross national product; to project mortgage demands; and to measure the adequacy of the supply of rental and homeowner units. In addition, investment firms use the HVS data to analyze market trends and for economic forecasting.

Affected Public: Individuals who have knowledge of the vacant sample unit (e.g., landlord, rental agents, neighbors).

Frequency: Monthly.

Respondent's Obligation: Voluntary.

Legal Authority: 13 U.S.C. 182 and 29 U.S.C. 1-9.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental PRA Lead, Office of the Chief Information Officer.

[FR Doc. 2017-07289 Filed 4-11-17; 8:45 am]

BILLING CODE 3510-07-P